SUSQUEHANNA RIVER BASIN COMMISSION

Public Hearing

AGENCY: Susquehanna River Basin Commission.

ACTION: Notice.

SUMMARY: The Susquehanna River Basin Commission will hold a public hearing on February 16, 2012, in Harrisburg, Pennsylvania. At this public hearing, the Commission will hear testimony on the projects listed in the Supplementary Information section of this notice. Such projects are intended to be scheduled for Commission action at its next business meeting, tentatively scheduled for March 15, 2012, which will be noticed separately. Included in the list of projects scheduled for comment at the public hearing are both new projects and certain projects that were acted upon at the Commission's December 15, 2011, public hearing held in Wilkes-Barre, Pennsylvania. The Commission is affording this opportunity for additional comment due to the disruptive behavior of certain individuals that prevented many interested persons from being able to offer testimony at the December 15, 2011, public hearing. To give due consideration of any new oral or written comment received on such projects, the Commission will reconsider, at its March 2012, meeting, the actions taken on December 15, 2011. Details concerning the list of all projects that are the subject of the public hearing are contained in the Supplementary Information section of this notice. The public should take note that this public hearing will be the only opportunity to offer oral comment to the Commission for the listed projects. There will be no opportunity for further comment on these projects at the Commission's business meeting in March 2012, where the Commission is expected to take action thereon. The deadline for written comments on all such projects is February 27, 2012.

DATES: The public hearing will convene on February 16, 2012, at 2:30 p.m. Written comments on the listed projects are due on or before February 27, 2012.

ADDRESSES: The public hearing will be conducted at the Pennsylvania State Capitol, Room 8E-B, East Wing, Commonwealth Avenue, Harrisburg, Pa.

FOR FURTHER INFORMATION CONTACT: Richard A. Cairo, General Counsel, telephone: (717) 238-0423, ext. 306; fax: (717) 238-2436; email: rcairo@srbc.net or Stephanie L. Richardson, Secretary to the Commission, telephone: (717) 238-0423, ext. 304; fax: (717) 238-2436; email: srichardson@srbc.net. Information concerning the applications for these projects is available at the SRBC Water Resource Portal at www.srbc.net/wrp. Materials and supporting documents are available to inspect and copy in accordance with the Commission's Access to Records Policy at www.srbc.net/pubinfo/docs/2009-02%20Access%20to%20Records%20Policy%209-10-09.PDF.

SUPPLEMENTARY INFORMATION: The public hearing will cover the following projects:

Projects Originally Considered at the December 15, 2011, Public Hearing

1. Project Sponsor: Anadarko E&P Company LP. Project Facility: Sproul State Forest—Council Run, Snow Shoe Township, Centre County, Pa. Application for groundwater withdrawal of up to 0.715 mgd (30-day average) from Well PW-11.

2. Project Sponsor: Bioenergy International, LLC. Project Facility: Bionol Clearfield, LLC, Clearfield Borough, Clearfield County, Pa. Modification to conditions of the surface water withdrawal approval (Docket No. 20070904).

3. Project Sponsor: Borough of Ephrata. Project Facility: Ephrata Area Joint Authority, Ephrata Borough, Lancaster County, Pa. Modification to conditions of the groundwater withdrawal approval (Docket No. 20110902).

4. Project Sponsor and Facility: Carrizo (Marcellus), LLC (Mosquito Creek-2), Karthaus Township, Clearfield County, Pa. Application for surface water withdrawal of up to 2.160 mgd.

5. Project Sponsor and Facility: Central New York Oil and Gas Company, LLC (Susquehanna River), Wilmot Township, Bradford County, Pa. Application for surface water withdrawal of up to 0.540 mgd.

6. Project Sponsor and Facility: Central New York Oil and Gas Company, LLC, Wilmot Township, Bradford County, Pa. Application for consumptive water use of up to 0.105 mgd.

7. Project Sponsor and Facility: Chesapeake Appalachia, LLC (Susquehanna River—Babcock), Ulster Township, Bradford County, Pa. Application for surface water withdrawal of up to 3.000 mgd.

8. Project Sponsor and Facility: Chesapeake Appalachia, LLC (Susquehanna River—Elmglade), Wilmot Township, Bradford County, Pa. Application for surface water withdrawal of up to 2.016 mgd.

9. Project Sponsor and Facility: Chesapeake Appalachia, LLC (Towanda Creek—Sechrist), Canton Township, Bradford County, Pa. Application for surface water withdrawal of up to 0.504 mgd.

10. Project Sponsor: Clark Trucking, LLC. Project Facility: Northeast Division (Lycoming Creek), Lewis Township, Lycoming County, Pa. Application for surface water withdrawal of up to 0.500 mgd.

11. Project Sponsor: Clark Trucking, LLC. Project Facility: Northeast Division (Muncy Creek), Muncy Creek Township, Lycoming County, Pa. Application for surface water withdrawal of up to 0.700 mgd.

12. Project Sponsor and Facility: Dunn Lake LLC (Dunn Pond), Ararat Township, Susquehanna County, Pa. Application for surface water withdrawal of up to 0.999 mgd.

13. Project Sponsor and Facility: EXCO Resources (PA), LLC (Muncy Creek—McClintock), Penn Township, Lycoming County, Pa. Application for surface water withdrawal of up to 1.500 mgd.

14. Project Sponsor: Glenn O. Hawbaker, Inc. Project Facility: Greens Landing Aggregate Plant, Athens Township, Bradford County, Pa. Application for surface water withdrawal of up to 0.249 mgd.

15. Project Sponsor: Glenn O. Hawbaker, Inc. Project Facility: Greens Landing Aggregate Plant, Athens Township, Bradford County, Pa. Application for consumptive water use of up to 0.249 mgd.

16. Project Sponsor: Hazleton Creek Properties, LLC. Project Facility: Hazleton Mine Reclamation, Hazleton City, Luzerne County, Pa. Modification to increase groundwater withdrawal by an additional 0.145 mgd, for a total of 0.200 mgd (30-day average) (Docket No. 20110307).

17. Project Sponsor and Facility: Keystone Clearwater Solutions, LLC (Babb Creek), Morris Township, Tioga County, Pa. Application for surface water withdrawal of up to 0.950 mgd.

18. Project Sponsor and Facility: Stanley S. Karp Sr. (Tunkhannock Creek), Nicholson Township, Wyoming County, Pa. Application for surface water withdrawal of up to 0.510 mgd.

19. Project Sponsor and Facility: Sugar Hollow Trout Park and Hatchery, Eaton Township, Wyoming County, Pa. Modification to project features and conditions of the groundwater withdrawal approval (Docket No. 20100913).

20. Project Sponsor and Facility: Sugar Hollow Water Services, LLC (Susquehanna River—Chellis), Eaton Township, Wyoming County, Pa. Application for surface water withdrawal of up to 1.500 mgd.

21. Project Sponsor: The Municipal Authority of the Borough of Berlin. Project Facility: Berlin Borough Municipal Authority, Allegheny Township, Somerset County, Pa. Modification to conditions of the groundwater withdrawal approval (Docket No. 19980702).

22. Project Sponsor and Facility: Walker Township Water Association, Walker Township, Centre County, Pa. Modification to increase the total groundwater system withdrawal limit from 0.523 mgd to 0.753 mgd (30-day average) (Docket No. 20070905).

23. Project Sponsor and Facility: Williams Production Appalachia, LLC (Middle Branch Wyalusing Creek), Forest Lake Township, Susquehanna County, Pa. Application for surface water withdrawal of up to 0.750 mgd.

24. Project Sponsor and Facility: Williams Production Appalachia, LLC (Snake Creek-2), Franklin Township, Susquehanna County, Pa. Application for surface water withdrawal of up to 0.999 mgd.

25. Project Sponsor and Facility: Williams Production Appalachia, LLC (Susquehanna River), Great Bend Township, Susquehanna County, Pa. Commission-initiated modification to project features and conditions of the surface water withdrawal approval (Docket No. 20090303), making a correction and reducing the approved surface water withdrawal amount from 3.00 mgd to 1.00 mgd.

26. Project Sponsor and Facility: Williams Production Appalachia, LLC (Susquehanna River-2), Great Bend Township, Susquehanna County, Pa. Application for surface water withdrawal of up to 2.000 mgd.

Additional Project for Rescission Action

1. Project Sponsor and Facility: Texas Eastern Transmission LP (Susquehanna River) (Docket No. 20110314), East Donegal Township, Lancaster County, Pa.

Additional Projects

1. Project Sponsor and Facility: Anadarko E&P Company LP (Lycoming Creek), Lewis Township, Lycoming County, Pa. Application for surface water withdrawal of up to 1.340 mgd (peak day).

2. Project Sponsor and Facility: Aqua Infrastructure, LLC (West Branch Susquehanna River), Piatt Township, Lycoming County, Pa. Application for surface water withdrawal of up to 3.000 mgd (peak day).

3. Project Sponsor and Facility: Aqua Resources, Inc. (Susquehanna River), Athens Township, Bradford County, Pa. Application for surface water withdrawal of up to 0.900 mgd (peak day).

4. Project Sponsor and Facility: Black Bear Waters, LLC (Lycoming Creek), Lewis Township, Lycoming County, Pa. Application for surface water withdrawal of up to 0.400 mgd (peak day).

5. Project Sponsor and Facility: Blossburg Municipal Authority, Bloss Township, Tioga County, Pa. Application for groundwater withdrawal of up to 0.396 mgd (30-day average) from Route 15 Well.

6. Project Sponsor and Facility: Buck Ridge Stone, LLC (Salt Lick Creek), New Milford Township, Susquehanna County, Pa. Modification to increase surface water withdrawal by an additional 0.637 mgd, for a total of 0.720 mgd (peak day) (Docket No. 20100905).

7. Project Sponsor and Facility: Cabot Oil & Gas Corporation (Susquehanna River), Susquehanna Depot Borough, Susquehanna County, Pa. Modification to increase surface water withdrawal by an additional 0.780 mgd, for a total of 1.500 mgd (peak day) (Docket No. 20080908).

8. Project Sponsor and Facility: Cabot Oil & Gas Corporation (Susquehanna River), Great Bend Borough, Susquehanna County, Pa. Modification to increase surface water withdrawal by an additional 1.280 mgd, for a total of 2.000 mgd (peak day) (Docket No. 20080905).

9. Project Sponsor and Facility: Carrizo (Marcellus), LLC (Middle Branch Wyalusing Creek), Forest Lake Township, Susquehanna County, Pa. Modification to conditions of the surface water withdrawal approval (Docket No. 20110604).

10. Project Sponsor and Facility: Carrizo (Marcellus), LLC (Moshannon Creek), Decatur Township, Clearfield County, Pa. Application for surface water withdrawal of up to 2.590 mgd (peak day).

11. Project Sponsor and Facility: Carrizo (Marcellus), LLC (Unnamed Tributary of Middle Branch Wyalusing Creek), Forest Lake Township, Susquehanna County, Pa. Modification to conditions of the surface water withdrawal approval (Docket No. 20110605).

12. Project Sponsor and Facility: Empire Kosher Poultry, Inc., Walker Township, Juniata County, Pa. Modification to increase total groundwater system withdrawal by an additional 0.499 mgd, for a total of 1.269 mgd (30-day average) (Docket No. 20030809).

13. Project Sponsor and Facility: EQT Production Company (Bennett Branch Power), Jay Township, Elk County, Pa. Application for surface water withdrawal of up to 2.500 mgd (peak day).

14. Project Sponsor and Facility: EQT Production Company (Wilson Creek), Duncan Township, Tioga County, Pa. Application for surface water withdrawal of up to 0.740 mgd (peak day).

15. Project Sponsor: IBM Corporation. Project Facility: Endicott Facility, Village of Endicott, Broome County, N.Y. Modification to increase total groundwater system withdrawal by an additional 0.499 mgd, for a total of 1.509 mgd (30-day average) (Docket No. 20090329).

16. Project Sponsor and Facility: Jo Jo Oil Company, Inc. (Tunkhannock Creek), Tunkhannock Township, Wyoming County, Pa. Application for surface water withdrawal of up to 0.999 mgd (peak day).

17. Project Sponsor and Facility: Keystone Landfill, Inc., Dunmore Borough, Lackawanna County, Pa. Modification to increase groundwater withdrawal by an additional 0.150 mgd, for a total of 0.160 mgd (30-day average) (Docket No. 20080611).

18. Project Sponsor and Facility: Keystone Landfill, Inc., Dunmore Borough, Lackawanna County, Pa. Modification to increase consumptive water use by an additional 0.260 mgd, for a total of up to 0.360 mgd (30-day average) (Docket No. 20080611).

19. Project Sponsor and Facility: Northwestern Lancaster County Authority, Penn Township, Lancaster County, Pa. Application for groundwater withdrawal of up to 0.324 mgd (30-day average) from Well 2.

20. Project Sponsor and Facility: Northwestern Lancaster County Authority, Penn Township, Lancaster County, Pa. Application for groundwater withdrawal of up to 1.000 mgd (30-day average) from Well 3.

21. Project Sponsor: Pine Creek Municipal Authority. Project Facility: Wastewater Treatment Plant, Pine Creek Township, Clinton County, Pa. Application for withdrawal of treated wastewater effluent of up to 0.999 mgd.

22. Project Sponsor and Facility: Roaring Spring Water—Division of Roaring Spring Blank Book (Roaring Spring), Roaring Spring Borough, Blair County, Pa. Application for surface water withdrawal of up to 0.302 mgd (peak day).

23. Project Sponsor and Facility: Roaring Spring Water—Division of Roaring Spring Blank Book, Roaring Spring Borough, Blair County, Pa. Application for consumptive water use of up to 0.255 mgd (30-day average).

24. Project Sponsor and Facility: Southwestern Energy Production Company (Blockhouse Creek), Jackson Township, Lycoming County, Pa. Application for surface water withdrawal of up to 0.999 mgd (peak day).

25. Project Sponsor and Facility: Southwestern Energy Production Company (East Branch Tunkhannock Creek), Lenox Township, Susquehanna County, Pa. Application for surface water withdrawal of up to 1.500 mgd (peak day).

26. Project Sponsor and Facility: Southwestern Energy Production Company (Susquehanna River), Oakland Township, Susquehanna County, Pa. Application for surface water withdrawal of up to 3.000 mgd (peak day).

27. Project Sponsor and Facility: Southwestern Energy Production Company (Tunkhannock Creek), Lenox Township, Susquehanna County, Pa. Application for surface water withdrawal of up to 1.500 mgd (peak day).

28. Project Sponsor and Facility: Stanley S. Karp Sr. (Tunkhannock Creek), Nicholson Township, Wyoming County, Pa. Application for surface water withdrawal of up to 0.510 mgd (peak day).

29. Project Sponsor and Facility: SWEPI LP (Cowanesque River—Egleston), Nelson Township, Tioga County, Pa. Modification to increase surface water withdrawal by an additional 0.267 mgd, for a total of 0.534 mgd (peak day) (Docket No. 20100604).

30. Project Sponsor: Viking Energy of Northumberland, LLC. Project Facility: Power Plant, Point Township, Northumberland County, Pa. Application for consumptive water use of up to 0.387 mgd (30-day average).

31. Project Sponsor: Viking Energy of Northumberland, LLC. Project Facility: Power Plant, Point Township, Northumberland County, Pa. Application for groundwater withdrawal of up to 0.172 mgd from Well 1, and a total system withdrawal limit of up to 0.391 mgd (30-day average).

32. Project Sponsor: Viking Energy of Northumberland, LLC. Project Facility: Power Plant, Point Township, Northumberland County, Pa. Application for groundwater withdrawal of up to 0.172 mgd from Well 2, and a total system withdrawal limit of up to 0.391 mgd (30-day average).

33. Project Sponsor: Viking Energy of Northumberland, LLC. Project Facility: Power Plant, Point Township, Northumberland County, Pa. Application for groundwater withdrawal of up to 0.172 mgd from Well 4, and a total system withdrawal limit of up to 0.391 mgd (30-day average).

34. Project Sponsor and Facility: Water Treatment Solutions, LLC (South Mountain Lake), Wood Township, Lycoming County, Pa. Application for surface water withdrawal of up to 0.499 mgd (peak day).

Opportunity To Appear and Comment

Interested parties may appear at the hearing to offer comments to the Commission on any project listed above. The presiding officer reserves the right to limit oral statements in the interest of time and to otherwise control the course of the hearing. Ground rules for the hearing will be clearly stated prior to the hearing and disruptive behavior will not be tolerated. Ground rules will be posted on the Commission's Web site, www.srbc.net, prior to the hearing for review. The presiding officer reserves the right to modify or supplement such rules at the hearing. Written comments on any project listed above may also be mailed to the Susquehanna River Basin Commission, 1721 North Front Street, Harrisburg, Pa. 17102-2391, or submitted electronically to Richard A. Cairo, General Counsel, rcairo@srbc.net, or Stephanie L. Richardson, Secretary to the Commission, srichardson@srbc.net. Comments mailed or electronically submitted must be received by the Commission on or before February 27, 2012, to be considered.

Authority: Pub. L. 91-575, 84 Stat. 1509 et seq., 18 CFR parts 806-808.

Dated: January 12, 2012.
Thomas W. Beauduy,
Deputy Executive Director.

[FR Doc. 2012-1185 Filed 1-20-12; 8:45 am]

BILLING CODE 7040-01-P